DEPARTMENT OF COMMERCE

International Trade Administration

[A-570-908]

First Antidumping Duty Administrative Review of Sodium Hexametaphosphate from the People's Republic of China: Extension of Time Limit for the Final Results

AGENCY: Import Administration, International Trade Administration, Department of Commerce.

EFFECTIVE DATE: August 10, 2010.

FOR FURTHER INFORMATION CONTACT: Paul Walker, AD/CVD Operations, Office 9, Import Administration, International Trade Administration, U.S. Department of Commerce, 14th Street and Constitution Avenue, NW, Washington, DC 20230; telephone: (202) 482-0413.

SUPPLEMENTARY INFORMATION:

Background

On April 15, 2010, the Department of Commerce (“Department”) published in the Federal Register the Preliminary Results of the first administrative review of sodium hexametaphosphate (“sodium hex”) from the People's Republic of China (“PRC”), covering the period September 14, 2007 February 28, 2009. See First Administrative Review of Sodium Hexametaphosphate from the People's Republic of China: Notice of Preliminary Results of the Antidumping Duty Administrative Review, 75 FR 19613 (April 15, 2010) (“Preliminary Results”). The final results of this administrative review are currently due on August 13, 2010.

Extension of Time Limit for the Preliminary Results

Section 751(a)(3)(A) of the Tariff Act of 1930, as amended (“the Act”), requires the Department to issue the final results of an administrative review within 120 days after the date on which the Preliminary Results have been published. If it is not practicable to complete the review within the time period, section 751(a)(3)(A) of the Act allows the Department to extend this deadline to a maximum of 180 days.

The Department determines that completion of the final results of this review within the statutory time period is not practicable, given the extraordinarily complicated nature of the proceeding. The Department requires more time to analyze a significant amount of information pertaining to the respondent's corporate structure and ownership, sales practices and manufacturing methods. Therefore, given the number and complexity of issues in this case, and in accordance with section 751(a)(3)(A) of the Act, we are extending the time period for issuing the final results of review until October 5, 2010.

This notice is published pursuant to sections 751(1)(3)(A) and 777(i)(1) of the Act and 19 CFR § 351.213(h)(2).

Dated: July 30, 2010.
Edward Yang,
Acting Deputy Assistant Secretary for Antidumping and Countervailing Duty Operations.

[FR Doc. 2010-19726 Filed 8-9-10; 8:45 am]

BILLING CODE 3510-DS-S